DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 21, 2013. Address written comments to Statutory Import Programs Staff, Room 3720, U.S. Department of Commerce, Washington, DC 20230. Applications may be examined between 8:30 a.m. and 5:00 p.m. at the U.S. Department of Commerce in Room 3720.

Docket Number: 13-028. Applicant: University of Minnesota, Dept. of Chemical Engineering & Material Science, 421 Washington Avenue SE, Minneapolis, MN 55455. Instrument: Electron Microscope. Manufacturer: FEI Company, the Netherlands. Intended Use: The instrument will be used to study chemical bonds between atoms in bulk crystals and defects near those, which requires aberration-corrected ADF-STEM imaging with sub-0.2 eV resolution EELS, as well as the study of the magnetic and electronic properties of heterostructured magnetic materials, which also requires atomic-resolution EDS. Justification for Duty-Free Entry: There are no instruments of the same general category manufactured in the United States. Application accepted by Commissioner of Customs: August 8, 2013.

Docket Number: 13-035. Applicant: Colorado State University, Department of Chemistry, 1872 Campus Delivery, Fort Collins, CO 80523-1872. Instrument: Electron Microscope. Manufacturer: JEOL Ltd., Japan. Intended Use: The instrument will be used to determine the uniformity of particle formation, bulk transport and absorption properties of Cu2ZnSnS4 nanoparticles in photovoltaics, the elemental composition of CuSi nanowires, accurate measure of pore structures in plasma formed tubule structures that are less than 50nm, characterization of plasma induced damage to multi-walled carbon nanotubes, grain size and filing mechanisms in PbTiO3 nanotubes, structure and chemical makeup of nanoclusters of iridium or cobalt atoms used industrially as hydrogenation catalysts and structure of gold nanoparticles with a variable number and variety of attached thiolate ligands. Justification for Duty-Free Entry: There are no instruments of the same general category manufactured in the United States. Application accepted by Commissioner of Customs: August 12, 2013.

Docket Number: 13-038. Applicant: Air Force Institute of Technology, 2950 Hobson Way, Wright-Patterson AFB, OH, 45433-7765. Instrument: Electron Microscope. Manufacturer: FEI Company, Czech Republic. Intended Use: The instrument will be used to study non-biological microelectronics, micro-electromechanical systems (MEMS) as well as nanotechnology materials and devices. Justification for Duty-Free Entry: There are no instruments of the same general category manufactured in the United States. Application accepted by Commissioner of Customs: September 10, 2013.

Docket Number: 13-039. Applicant: Department of Transportation, Turner Fairbank Highway Research Center, 6300 Georgetown Pike, McClean, VA 22101. Instrument: Electron Microscope. Manufacturer: FEI Company, Czech Republic. Intended Use: The instrument will be used to observe the crystal structure changes in the cement in 3 hydrates, as well as to investigate the causes of premature failures in highway structures. The experiments will involve the study of the rate of setting or hydration of concrete mixtures in which a large portion of the cement is replaced by fly ash from coal burning power plants. The objective is to reduce the amount cement (a major source of greenhouse gases) with a waste product, fly ash, which is produced by coal burning power plants. Justification for Duty-Free Entry: There are no instruments of the same general category manufactured in the United States. Application accepted by Commissioner of Customs: September 13, 2013.

Docket Number: 13-040. Applicant: Center for Disease Control and Prevention, 2920 Brandywine Road, RM 3000, Atlanta, GA 3041-5539. Instrument: Electron Microscope. Manufacturer: FEI Company, Czech Republic. Intended Use: The instrument will be used to expand the understanding of impacts of tobacco use on individuals as part of U.S. Public Health studies, including how the particle size and composition in the smoke affects the change in type and pulmonary location of cancers prevalent in smokers. Justification for Duty-Free Entry: There are no instruments of the same general category manufactured in the United States. Application accepted by Commissioner of Customs: September 12, 2013.

Docket Number: 13-041. Applicant: Sanford-Burnham Medical Research, 10901 No. Torrey Pines Road, La Jolla, CA 92037. Instrument: Electron Microscope. Manufacturer: FEI Company, the Netherlands. Intended Use: The instrument will be used to learn how molecules that work inside living cells like Arp2/3 complex, adhesosomes, and ribosomes work together to perform their cellular duties. Justification for Duty-Free Entry: There are no instruments of the same general category manufactured in the United States. Application accepted by Commissioner of Customs: September 12, 2013.

Dated: September 23, 2013.
Gregory W. Campbell,
Director of Subsidies Enforcement, Import Administration.

[FR Doc. 2013-23778 Filed 9-27-13; 8:45 am]

BILLING CODE 3510-DS-P